DEPARTMENT OF AGRICULTURE

Forest Service

Middle Fork Ranger District; Willamette National Forest; Lane County Oregon; Youngs Rock Rigdon EIS

AGENCY: Forest Service, USDA.

ACTION: Notice of intent to prepare an environmental impact statement.

SUMMARY: The USDA Forest Service is preparing an Environmental Impact Statement (EIS) for the Youngs Rock Rigdon project. The project area is located on the western slope of the Cascades in the Upper Middle Fork Willamette Watershed, approximately 15 miles south of Oakridge, OR. The project area is approximately 33,000 acres in size. Forest management treatments are proposed on approximately 6,800 acres within the project area. The project area is within the Northwest Forest Plan management allocations of Matrix, Late Successional Reserve, Administratively Withdrawn, and Riparian Reserves (3,000 acres). Treatments are also proposed in the 1990 Willamette Forest Plan Deadhorse Special Interest Area (SIA), which would require a Forest Plan Amendment.

DATES: Comments concerning the scope of the analysis must be received by July 17, 2019. The draft EIS is expected April 2020 and the final EIS is expected January 2021.

ADDRESSES: Scoping comments can be submitted electronically through https://cara.ecosystem-management.org/Public//CommentInput?Project=55868. Written comments may be submitted via mail or by hand delivery to Duane F. Bishop, District Ranger, Middle Fork Ranger District, 46375 Highway 58, Westfir, OR 97492.

FOR FURTHER INFORMATION CONTACT: Jonathan Tucker (District Planner) by email at jonathan.tucker@usda.gov or by phone at 541-782-5346, between 8:00 a.m. and 4:30 p.m., Pacific Time, Monday through Friday. Individuals who use telecommunication devices for the deaf (TDD) may call the Federal Information Relay Service (FIRS) at 1-800-877-8339 between 8 a.m. and 8 p.m., Eastern Time, Monday through Friday.

SUPPLEMENTARY INFORMATION:

Purpose and Need for Action

The overall purpose of the Youngs Rock Rigdon EIS is to restore and enhance the ecological, social, and economic aspects of the landscape. The actions proposed in the Youngs Rock Rigdon project are needed to improve stand and landscape diversity, structure, and resiliency; strategically reduce hazardous fuels; sustainably manage existing trail systems and dispersed recreation while minimizing impacts to natural resources; identify a sustainable road system needed for safe and efficient travel and for administration, utilization, and protection of National Forest System lands; and provide a sustainable supply of forest products.

Proposed Action

The Middle Fork Ranger District of the Willamette National Forest is proposing multiple actions to meet the purpose and need of the project, as described below.

Commercial and non-commercial thinning and regeneration harvest is proposed in about 4,500 acres of stands. Within the 3,000 acres of older natural origin stands of mixed conifer forest, the emphasis is on creating late seral open forest through variable density thinning with skips (untreated areas) and gaps (openings) scattered throughout the stands. This thinning would be primarily through timber harvesting but also includes using non-commercial methods such as underburning, fall and leave, and fall and remove for aquatic habitat restoration activities. Gap sizes range from 0.25 to 3 acres in size. Within the 1,500 acres of younger managed stands of mixed conifer and moister upland forest, the emphasis is on connecting late seral forest and creating open seral forest. Multiple logging systems, road maintenance, temporary road construction, and pit development would be required for commercial harvest. Meadow restoration activities on approximately 300 acres would include tree cutting, piling, pile burning, pruning, noxious weed treatment, underburning, and planting native plants. Aquatic restoration activities would occur on approximately 700 acres of floodplain and Riparian Reserves and include streamside tree tipping, Riparian Reserve fall and leave, and floodplain augmentation and instream restoration. Thinning and fuel treatments would occur in some Riparian Reserves outside of riparian no harvest areas and would include allowing backing prescribed fire. All treatments would be designed to maintain and/or improve Aquatic Conservation Strategy Objectives.

Hazardous fuel reduction treatments would be proposed to reduce existing fuel loadings as well as to reduce logging slash in treated stands to levels within Forest Plan standards and guidelines. Treatments would be proposed in locations that would offer a strategic benefit, in regard to tactics and firefighter safety, for future fire management. Proposed treatments on approximately 1,300 acres of understory fuel treatment units are strategically located to connect fuel breaks around adjacent private industrial forest and would include underburning, understory thinning (removal of brush and trees less than 7 inch DBH [diameter at breast height]), pruning, whipfelling, chipping, piling, and burning. Total post-harvest fuel treatments are 4,500 acres.

The proposed action includes relocating two miles of existing trail and removing and replacing two bridges to minimize impacts within the floodplain and required maintenance due to poor current location. The project also proposes to manage dispersed recreation sites within close proximity to Endangered Species Act listed fish habitat. This would result in some sites being decommissioned, and others being managed to minimize impacts to natural resources (i.e., walk-in sites; designated parking areas, and non-motorized restrictions).

The proposed action would identify a sustainable road system needed for safe and efficient travel and for administration, utilization, and protection of National Forest System lands. The District Ranger and project Interdisciplinary Team propose to implement the Willamette National Forest Road Investment Strategy, which would result in recommendations for system roads to remain open, be stabilized and stored, or be decommissioned.

The activities in the proposed action would provide a sustainable supply of forest products including approximately 65 million board feet of timber.

Forest Plan Amendment

Restoration is needed for the unique mixed conifer forest of oaks and pines in western Oregon. Past fire suppression has created dense forest, where oaks and pine require open forest. The Forest Plan Amendment would allow timber harvest to reduce stand density in the Deadhorse Management Area 5a—SIA where no programmed harvest is allowed (Willamette Land and Resource Management Plan, IV p. 138). About 400 acres of treatments in the 1,701 acre Deadhorse SIA is proposed, including prescribed fire, meadow enhancement, and removal of timber on about 80 acres; while maintaining and protecting the SIA cultural features. The amendment is specific to the project area and proposed activities and follows the 2012 Planning Rule. The substantive provisions of 36 CFR 219.8 through 219.11 that directly apply to the proposed amendment are § 219.8 Sustainability and § 219.9 Diversity of plant and animal communities.

Responsible Official

The responsible official will be Duane F. Bishop, District Ranger, Middle Fork Ranger District.

Nature of Decision To Be Made

Given the purpose and need, the responsible official will determine whether the proposed actions comply with all applicable laws governing Forest Service actions and with the applicable standards and guidelines found in the Willamette Forest Plan; whether the EIS has sufficient site-specific environmental analysis to make an informed decision; and whether the proposed action meets the purpose and need for action. With this information, the responsible official must decide whether to select the proposed action or one of any other potential alternatives that may be developed, and what, if any, additional actions should be required.

Scoping Process

This notice of intent initiates the scoping process, which guides the development of the EIS. Public comments regarding this proposal are requested in order to assist in identifying issues and opportunities associated with the proposal, how to best manage resources, and to focus the analysis. Those wishing to object must meet the requirements at 36 CFR 218.

It is important that reviewers provide their comments at such times and in such manner that they are useful to the agency's preparation of the EIS. Therefore, comments should be provided prior to the close of the comment period and should clearly articulate the reviewer's concerns and contentions.

Comments received in response to this solicitation, including names and addresses of those who comment, will be part of the public record for this proposed action. Comments submitted anonymously will be accepted and considered; however, anonymous comments will not provide the Agency with the ability to provide the respondent with subsequent environmental documents.

Dated: May 16, 2019.
Frank R. Beum,
Acting Associate Deputy Chief, National Forest System.

[FR Doc. 2019-12750 Filed 6-14-19; 8:45 am]

BILLING CODE 3411-15-P